DEPARTMENT OF COMMERCE

International Trade Administration

[A-570-898]

Notice of Amended Preliminary Antidumping Duty Determination of Sales at Less Than Fair Value: Chlorinated Isocyanurates From the People's Republic of China

AGENCY: Import Administration, International Trade Administration, Department of Commerce.

EFFECTIVE DATE: February 24, 2005.

FOR FURTHER INFORMATION CONTACT: Cindy Robinson or Brian C. Smith, AD/CVD Operations, Office 9, Import Administration, International Trade Administration, U.S. Department of Commerce, 14th Street and Constitution Avenue, NW., Washington, DC 20230; telephone: (202) 482-3797, or (202) 482-1766, respectively.

SUMMARY: The Department of Commerce (“the Department”) is amending the weighted-average dumping margin listed in the Preliminary Determination for the mandatory respondent Hebei Jiheng Chemical Co., Ltd. (“Jiheng”) and for the Section A Respondents.¹ See Notice of Preliminary Determination of Sales at Less Than Fair Value and Postponement of Final Determination: Chlorinated Isocyanurates from the People's Republic of China, 69 FR 75293 (December 16, 2004) (“Preliminary Determination”). The Department finds that it made ministerial errors in the calculations for Jiheng, and that the correction of all errors alleged by Jiheng fulfills the requirement of a significant ministerial error within the meaning of 19 CFR 351.224(e). Therefore, the rate assigned to the Section A respondents also changes.

¹ The Section A Respondents include the following companies: Liaocheng Huaao Chemical Industry Co., Ltd. (“Huaao”); Shanghai Tian Yuan International Trading Co., Ltd., (“Tian Yuan”); and Changzhou Clean Chemical Co., Ltd. (“Clean Chemical”); Sinochem Hebei Import & Export Corporation (“Sinochem Hebei”); and Sinochem Shanghai Import & Export Corporation (“Sinochem Shanghai”).

Scope of the Investigation

The products covered by this investigation are chlorinated isocyanurates. Chlorinated isocyanurates are derivatives of cyanuric acid, described as chlorinated s-triazine triones. There are three primary chemical compositions of chlorinated isocyanurates: (1) trichloroisocyanuric acid (Cl3 (NCO)3), (2) sodium dichloroisocyanurate (dihydrate) (NaCl2(NCO)3 •2H2O), and (3) sodium dichloroisocyanurate (anhydrous) (NaCl2(NCO)3). Chlorinated isocyanurates are available in powder, granular, and tableted forms. This investigation covers all chlorinated isocyanurates.

Chlorinated isocyanurates are currently classifiable under subheadings 2933.69.6015 and 2933.69.6021 of the Harmonized Tariff Schedule of the United States (“HTSUS”).² This tariff classification represent a basket category that includes chlorinated isocyanurates and other compounds including an unfused triazine ring. Although the HTSUS subheading is provided for convenience and customs purposes, the written description of the scope of this investigation is dispositive.

² In the scope section of the Department's initiation and in its preliminary determination notices, chlorinated isocyanurates were classified under subheading 2933.69.6050 of the HTSUS. (See Initiation of Antidumping Duty Investigations: Chlorinated Isocyanurates From the People's Republic of China and Spain, 69 FR 32,488 (June 10, 2004), and Preliminary Determination. Effective January 1, 2005, chlorinated isocyanurates are currently classifiable under subheadings 2933.69.6015 and 2933.69.6021 of the HTSUS. The new subheading 2933.69.6015 covers sodium dichloroisocyanurates (anhydrous & dihydrate forms) and trichloroisocyanuric acid, and subheading 2933.69.6021 covers all other chlorinated isos used as pesticides (bactericides). The old subheading 2933.69.6050 covers all other chlorinated isos not used as pesticides. See Memorandum to James Doyle, Office 9, dated February 16, 2005, from Tom Futtner, Liaison w/Customs, Customs Unit, regarding Request for HTS Number Update(s) to AD/CVD Module Chlorinated Isos (A-570-898).

Arch's patented chlorinated isocyanurates tablet is also included in the scope of this investigation. See Preliminary Determination.

Background

On December 10, 2004, the Department preliminarily determined that chlorinated isocyanurates from the People's Republic of China (“PRC”) are being, or are likely to be, sold in the United States at less than fair value (“LTFV”), as provided in section 733(a) of the Tariff Act of 1930, as amended (“the Act”). See Preliminary Determination, 69 FR at 75293.

On December 20, 2004, Jiheng and Nanning Chemical Industry Co., Ltd. Corporation (“Nanning”) (collectively referred to as the “mandatory respondents”) timely filed allegations that the Department made ministerial errors in its Preliminary Determination.

The petitioners, Clearon Corporation and Occidental Chemical Corporation, did not file ministerial error allegations.

On January 24, 2005, the Department, after a review of the allegations filed by Jiheng and Nanning, determined that Jiheng's alleged clerical errors, when corrected, were not significant in accordance with 19 CFR 352.224(e), and that Nanning's allegation was methodological, rather than clerical, in nature. See Memorandum to the File, dated January 24, 2005, from the team to James C. Doyle, Office Director, Regarding Antidumping Duty Investigation of Chlorinated Isocyanurates from the People's Republic of China (“China”): Analysis of Allegations of Ministerial Errors (“Clerical Error Memo”).

On January 27, 2005, Jiheng alleged that of the four clerical error allegations, which the Department stated in its Clerical Error Memo it intended to correct, the Department did not correct one of the clerical errors (i.e., removing two by-products—ammonia gas and hydrogen gas—from its direct materials cost calculation) in the SAS program attached to the Clerical Error Memo. Consequently, Jiheng alleges that the Department erroneously concluded in its Clerical Error Memo that the combined corrections to all four errors made with respect to its margin calculation in the Preliminary Determination were not significant in accordance with 19 CFR 351.224(e). Jiheng further alleges that correcting the error at issue requires the Department to amend its preliminary determination because the combination of errors is significant in accordance with 19 CFR 351.224(e).

On January 31, 2005, the petitioners submitted rebuttal comments contesting the Department's treatment of the two by-products discussed in the Clerical Error Memo, and requested that the Department defer its decision on whether to treat these two products as by-products until the final determination. They also allege that the Department made an error in its margin program with respect to packing labor where unskilled packing labor was double-counted while skilled packing labor was uncounted.

On February 4, 2005, Jiheng submitted rebuttal comments requesting that the Department strike from the record the petitioners' January 31, 2005, comments.

Significant Ministerial Error

A ministerial error is defined in 19 CFR 351.224(f) as “an error in addition, subtraction, or other arithmetic function, clerical error resulting from inaccurate copying, duplication, or the like, and any other similar type of unintentional error which the Secretary considers ministerial.” With respect to preliminary determinations, section 351.224(e) of the Department's regulations provides that the Department “will analyze any comments received and, if appropriate, correct any significant ministerial error by amending the preliminary determination. * * *” (emphasis added).

A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g). As explained below, we have determined that the preliminary determination contains a “significant” ministerial error with respect to Jiheng that requires correction. As a result, the Department is publishing this amendment to its Preliminary Determination pursuant to 19 CFR 351.224(e).

Amended Preliminary Determination

After re-examining the corrections which we stated we made with respect to Jiheng in the Clerical Error Memo, we agree with Jiheng that we inadvertently did not make full correction to one of the four clerical errors alleged by Jiheng in its December 20, 2004, clerical error allegation submission. Specifically, the Department treated hydrogen gas and ammonia gas as by-products, but inadvertently did not remove the two by-products from Jiheng's direct materials cost calculation as stated in our Clerical Error Memo. This error has been corrected by removing the two by-products from Jiheng's direct material cost calculation. This correction along with the other three corrections, which we agree are clerical errors with respect to Jiheng's preliminary determination margin calculation, results in a significant error in accordance with 19 CFR 351.224(e). See Memorandum to the File, dated February 11, 2005, from the team to James C. Doyle, Office Director, Regarding Antidumping Duty Investigation of Chlorinated Isocyanurates from the People's Republic of China (“China”): Re-Analysis of Allegations of Ministerial Errors Made By Hebei Jiheng Chemical Co., Ltd. (“Jiheng”) (“Clerical Error Re-Analysis Memo”).

In addition, because the errors alleged by Jiheng were in fact significant, the Department has also amended the weighted-average dumping margin listed in the Preliminary Determination for the Section A Respondents (see also Clerical Error Re-Analysis Memo).

Pursuant to 19 CFR 351.224(c)(3), for purposes of this amended preliminary determination, we will not consider the petitioners' rebuttal comments on the Department's treatment of hydrogen gas and ammonia gas as by-products, and the SAS programing error with respect to packing labor hours. However, we will consider those comments in the final determination.

For purposes of this amended preliminary determination, we are not changing any findings in the Preliminary Determination with respect to Nanning's clerical error allegation because we find that Nanning's allegation is methodological, rather than clerical, in nature (see Clerical Error Memo for further discussion). Nanning will, however, have the opportunity to address the clerical error issue in its case brief, which will be considered by the Department at the final determination. As a result, the PRC-wide rate remains unchanged because the PRC-wide rate in the Preliminary Determination is based on Nanning's margin (which is the higher of the recalculated petition margin or highest margin calculated for any respondent in this investigation).

As a result of our correction of ministerial errors in the Preliminary Determination, the Department has determined that the following weighted-average dumping margins apply:

Chlorinated Isocyanurates from the PRC Mandatory Respondents
Manufacturer/exporter | Original preliminary margin (percent) | Amended preliminary margin (percent)
Hebei Jiheng Chemical Co., Ltd. | 125.97 | 86.79
Nanning Chemical Industry Co., Ltd. | 179.48 | 179.48
PRC-Wide Rate | 179.48 | 179.48

Chlorinated Isocyanurates from the PRC Section A Respondents
Manufacturer/exporter | Original preliminary margin (percent) | Amended preliminary margin (percent)
Changzhou Clean Chemical Co., Ltd. | 140.27 | 111.03
Liaocheng Huaao Chemical Industry Co., Ltd. | 140.27 | 111.03
Shanghai Tian Yuan International Trading Co., Ltd. | 140.27 | 111.03
Sinochem Hebei Import & Export Corporation | 140.27 | 111.03
Sinochem Shanghai Import & Export Corporation | 140.27 | 111.03

The collection of bonds or cash deposits and suspension of liquidation will be revised accordingly and parties will be notified of this determination, in accordance with section 733(d) and (f) of the Act.

International Trade Commission Notification

In accordance with section 733(f) of the Act, we have notified the International Trade Commission (“ITC”) of our amended preliminary determination. If our final determination is affirmative, the ITC will determine before the later of 120 days after the date of the Preliminary Determination or 45 days after our final determination whether the domestic industry in the United States is materially injured, or threatened with material injury, by reason of imports, or sales (or the likelihood of sales) for importation, of the subject merchandise.

This determination is issued and published in accordance with sections 733(f) and 777(i)(1) of the Act and 19 CFR 351.224(e).

Dated: February 17, 2005.
Joseph A. Spetrini,
Acting Assistant Secretary for Import Administration.

[FR Doc. 05-3688 Filed 2-23-05; 8:45 am]

BILLING CODE 3510-DS-P